DEPARTMENT OF COMMERCE

International Trade Administration

[A-570-924]

Polyethylene Terephthalate Film, Sheet, and Strip From the People's Republic of China: Preliminary Results of Antidumping Administrative Review; 2013-2014

AGENCY: Enforcement and Compliance, International Trade Administration, Department of Commerce.

SUMMARY: The Department of Commerce (“Department”) is conducting an administrative review of the antidumping duty order on polyethylene terephthalate film, sheet, and strip (“PET film”) from the People's Republic of China (“PRC”) for the period of review (“POR”) November 1, 2013, through October 31, 2014. This review covers four PRC companies.¹ The Department is rescinding the review with respect to Fuwei Films (Shandong) Co., Ltd. (“Fuwei Films”), Sichuan Dongfang Insulating Material Co., Ltd. (“Dongfang”), and Tianjin Wanhua Co., Ltd. (“Wanhua”). Further, the Department preliminarily finds that Shaoxing Xiangyu Green Packing Co., Ltd. (“Green Packing”) is part of the PRC-wide entity.

¹ See Initiation of Antidumping and Countervailing Duty Administrative Reviews, 79 FR 76956 (December 23, 2014).

DATES: Effective Date: August 12, 2015.

FOR FURTHER INFORMATION CONTACT: Jonathan Hill, Office IV, Enforcement & Compliance, International Trade Administration, Department of Commerce, 14th Street and Constitution Avenue NW., Washington, DC 20230; telephone: (202) 482-3518.

SUPPLEMENTARY INFORMATION:

Scope of the Order

The products covered by the order are all gauges of raw, pre-treated, or primed PET film, whether extruded or co-extruded.² PET film is classifiable under subheading 3920.62.00.90 of the Harmonized Tariff Schedule of the United States (“HTSUS”). Although the HTSUS subheadings are provided for convenience and customs purposes, our written description of the scope of the order is dispositive.

² For a complete description of the scope of the order, see “Decision Memorandum for the Preliminary Results of 2013-2014 Antidumping Duty Administrative Review: Polyethylene Terephthalate Film, Sheet, and Strip from the People's Republic of China,” from Christian Marsh, Deputy Assistant Secretary for Antidumping and Countervailing Duty Operations to Ronald K. Lorentzen, Acting Assistant Secretary for Enforcement and Compliance, dated concurrently with this notice (“Preliminary Decision Memorandum”).

Partial Rescission

On December 1, 2014, Green Packing requested administrative review of subject merchandise exported by itself, and Mitsubishi Polyester Film, Inc. and SKC, Inc. (collectively “Petitioners”) requested an administrative review of subject merchandise exported by Dongfang, Fuwei Films, Green Packing, and Wanhua. Subsequently, on March 23, 2015, Petitioners timely withdrew their request for an administrative review of each company. No other parties requested a review with respect to Dongfang, Fuwei Films, and Wanhua. Therefore, the Department, pursuant to 19 CFR 351.213(d)(1), is rescinding this administrative review with respect to each company. However, as Green Packing requested administrative review of itself and did not withdraw its request, the Department is continuing its review of Green Packing's exports of subject merchandise during the POR.

Methodology

The Department is conducting this review in accordance with section 751(a)(1)(B) of the Tariff Act of 1930, as amended (“the Act”). For a full description of the methodology underlying our conclusions, see Preliminary Decision Memorandum. This memorandum is a public document and is on file electronically via Enforcement and Compliance's Antidumping and Countervailing Duty Centralized Electronic Service System (“ACCESS”). ACCESS is available to registered users at https://access.trade.gov/login.aspx and in the Central Records Unit, room B8024 of the main Department of Commerce building. In addition, a complete version of the Preliminary Decision Memorandum can be accessed directly on the Internet at http://enforcement.trade.gov/frn/index.html/. The signed Preliminary Decision Memorandum and the electronic versions of the Preliminary Decision Memorandum are identical in content.

Preliminary Results of Review

The Department's change in policy regarding conditional review of the PRC-wide entity applies to this administrative review.³ Because Green Packing failed to establish that it is entitled to a separate rate for the POR, we are treating Green Packing as part of the PRC-wide entity.⁴ The rate previously established for the PRC-wide entity in this proceeding is 76.72 percent.⁵

³ See Antidumping Proceedings: Announcement of Change in Department Practice for Respondent Selection in Antidumping Duty Proceedings and Conditional Review of the Nonmarket Economy Entity in NME Antidumping Duty Proceedings, 78 FR 65963 (November 4, 2013). Under this policy, the PRC-wide entity will not be under review unless a party specifically requests, or the Department self-initiates, a review of the entity. Because no party requested a review of the PRC-wide entity in this review, the entity's rate is not subject to change.

⁴ See Preliminary Decision Memorandum.

⁵ See Polyethylene Terephthalate Film, Sheet, and Strip from the People's Republic of China: Final Determination of Sales at Less Than Fair Value, 73 FR 55039, 55041 (September 24, 2008).

Disclosure and Public Comment

Interested parties may submit case briefs and/or written comments, filed electronically using ACCESS, within 30 days of the date of publication of these preliminary results of review.⁶ Rebuttal briefs, limited to issues raised in the case briefs, will be due five days after the due date for case briefs.⁷ Parties who submit case or rebuttal briefs in this proceeding are requested to submit with each argument a statement of the issue, a summary of the argument not to exceed five pages, and a table of authorities.⁸

⁶ See 19 CFR 351.309(c).

⁷ See 19 CFR 351.309(d).

⁸ See 19 CFR 351.309(c).

Further, interested parties who wish to request a hearing must submit a written request to the Assistant Secretary for Enforcement and Compliance, U.S. Department of Commerce, within 30 days after the publication of this notice.⁹ Electronically filed case briefs/written comments and hearing requests must be received successfully in their entirety by the Department's electronic records system, ACCESS, by 5:00 p.m. Eastern Time, within 30 days after the date of publication of this notice.¹⁰ Hearing requests should contain: (1) The party's name, address and telephone number; (2) the number of participants; and (3) a list of issues to be discussed. Issues raised in the hearing will be limited to those issues raised in the respective case briefs. If a request for a hearing is made, parties will be notified of the time and date of the hearing which will be held at the U.S. Department of Commerce, 1401 Constitution Avenue NW., Washington DC 20230. The Department intends to issue the final results of this administrative review, including the results of its analysis of the issues raised in any written briefs, not later than 120 days after the date of publication of this notice, unless extended, pursuant to section 751(a)(3)(A) of the Act.

⁹ See 19 CFR 351.310(c).

¹⁰ Id.

Assessment Rates

Upon issuance of the final results, the Department will determine, and U.S. Customs and Border Protection (“CBP”) shall assess, antidumping duties on all appropriate entries covered by this review.¹¹ The Department intends to issue assessment instructions to CBP 15 days after the publication date of the final results of this review. The Department intends to instruct CBP to liquidate entries of subject merchandise from the PRC-wide entity, including entries of subject merchandise from Green Packing, at 76.72 percent (the PRC-wide rate).¹²

¹¹ See 19 CFR 351.212(b)(1).

¹² For a full discussion of this practice, see Non-Market Economy Antidumping Proceedings: Assessment of Antidumping Duties, 76 FR 65694 (October 24, 2011).

Cash Deposit Requirements

The following cash deposit requirements will be effective upon publication of the final results of this administrative review for all shipments of the subject merchandise entered, or withdrawn from warehouse, for consumption on or after the publication date of the final results of review, as provided by section 751(a)(2)(C) of the Act: (1) For the exporters listed above which have a separate rate, the cash deposit rate will be the rate established in the final results of this review (except, if the rate is zero or de minimis, then a cash deposit rate of zero will be established for that company); (2) for previously investigated or reviewed PRC and non-PRC exporters not listed above that have separate rates, the cash deposit rate will continue to be the exporter-specific rate published for the most recently completed segment of this proceeding; (3) for all PRC exporters of subject merchandise that have not been found to be entitled to a separate rate, the cash deposit rate will be the rate for the PRC-wide entity, 76.72 percent; and (4) for all non-PRC exporters of subject merchandise which have not received their own rate, the cash deposit rate will be the rate applicable to the PRC exporter(s) that supplied that non-PRC exporter. These deposit requirements, when imposed, shall remain in effect until further notice. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213 and 351.221(b)(4).

Dated: July 30, 2015.
Ronald K. Lorentzen,
Acting Assistant Secretary for Enforcement and Compliance.

Appendix

List of Topics Discussed in the Preliminary Results Decision Memorandum

Summary

Background

Partial Rescission

Scope of the Order

Discussion of the Methodology

Non-Market Economy Status

PRC-Wide Entity

Recommendation

[FR Doc. 2015-19359 Filed 8-11-15; 8:45 am]

BILLING CODE 3510-DS-P